DEPARTMENT OF THE TREASURY

Internal Revenue Service

Open meeting of the Taxpayer Advocacy Panel Joint Committee

AGENCY: Internal Revenue Service (IRS), Treasury.

ACTION: Notice of meeting.

SUMMARY: An open meeting of the Taxpayer Advocacy Panel Joint Committee will be conducted. The Taxpayer Advocacy Panel is soliciting public comments, ideas, and suggestions on improving customer service at the Internal Revenue Service.

DATES: The meeting will be held Wednesday, January 29, 2014.

FOR FURTHER INFORMATION CONTACT: Patricia Robb or Ellen Smiley at 1-888-912-1227 or (414) 231-2360.

SUPPLEMENTARY INFORMATION: Notice is hereby given pursuant to Section 10(a)(2) of the Federal Advisory Committee Act, 5 U.S.C. App. (1988) that an open meeting of the Taxpayer Advocacy Panel Joint Committee will be held Wednesday, January 29, 2014, at 2 p.m. Eastern Time via teleconference. The public is invited to make oral comments or submit written statements for consideration. Notification of intent to participate must be made with Patricia Robb or Ellen Smiley. For more information please contact Patricia Robb or Ellen Smiley at 1-888-912-1227 or (414) 231-2360 or write: TAP Office, Stop 1006MIL, 211 West Wisconsin Avenue, Milwaukee, WI 53203-2221 or contact us at the Web site: http://www.improveirs.org.

The agenda will include various committee issues for submission to the IRS and other TAP related topics. Public input is welcomed.

Dated: January 9, 2014.
Linda Rivera,
Acting Director, Taxpayer Advocacy Panel.

[FR Doc. 2014-00652 Filed 1-14-14; 8:45 am]

BILLING CODE 4830-01-P